FEDERAL COMMUNICATIONS COMMISSION

47 CFR Part 73

[MB Docket No. 18-153, RM-11801; DA 18-496]

Television Broadcasting Services; Block Island and Newport, Rhode Island

AGENCY: Federal Communications Commission.

ACTION: Proposed rule.

SUMMARY: The Commission has before it a petition for rulemaking filed by Ocean State Television, LLC (Petitioner or OST), licensee of television station WPXQ-TV, channel 17, Block Island, Rhode Island (WPXQ). WPXQ operates on channel 17 on a shared basis with commercial television station WLWC, New Bedford, Massachusetts, also licensed to OST. OST requests an amendment of the DTV Table of Allotments to delete channel 17 at Block Island, Rhode Island, and substitute channel 17 at Newport, Rhode Island. Petitioner also requests modification of WPXQ's license to specify Newport as its community of license pursuant to agency rules. The Petitioner asserts that substantial public interests weigh heavily in favor of reallocating WPXQ to Newport. Newport has a population of 24,027 while Block Island's population consists of approximately 1,000. Petitioner asserts that the proposed reallotment will cause no public harm because Block Island will not only continue to be served by five full-power commercial and one full-power non-commercial television stations, but will also continue to receive the exact same over-the-air service from Petitioner that they are receiving currently. The proposal would result in a preferential allotment by providing Newport with its first local full-power television services in satisfaction of the Commission's second allotment priority, which is also consistent with Commission precedent and consistent with the public interest.

DATES: Comments must be filed on or before July 13, 2018, and reply comments on or before July 30, 2018.

ADDRESSES: Federal Communications Commission, Office of the Secretary, 445 12th Street SW, Washington, DC 20554. In addition to filing comments with the FCC, interested parties should serve counsel for petitioner as follows: Ocean State Television, LLC, c/o Cooley LLP, John R. Feore, Jr., Esq., Jason Rademacher, Esq., 1299 Pennsylvania Avenue NW, Suite 700, Washington, DC 20004.

FOR FURTHER INFORMATION CONTACT: Darren Fernandez, Darren.Fernandez@fcc.gov, phone 202-418-2769, Video Division, Media Bureau.

SUPPLEMENTARY INFORMATION: This is a synopsis of the Commission's Notice of Proposed Rule Making, MB Docket No. 18-153, adopted May 14, 2018, and released May 15, 2018. The full text of this document is available for public inspection and copying during normal business hours in the FCC's Reference Information Center at Portals II, CY-A257, 445 12th Street SW, Washington, DC 20554. This document will also be available via ECFS (http://www.fcc.gov/cgb/ecfs/). (Documents will be available electronically in ASCII, Word 97, and/or Adobe Acrobat.) To request this document in accessible formats (computer diskettes, large print, audio recording, and Braille), send an email to fcc504@fcc.gov or call the Commission's Consumer and Governmental Affairs Bureau at (202) 418-0530 (voice), (202) 418-0432 (TTY). This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding. Members of the public should note that from the time a Notice of Proposed Rule Making is issued until the matter is no longer subject to Commission consideration or court review, all ex parte contacts (other than ex parte presentations exempt under 47 CFR 1.1204(a)) are prohibited in Commission proceedings, such as this one, which involve channel allotments. See 47 CFR 1.1208 for rules governing restricted proceedings.

For information regarding proper filing procedures for comments, see 47 CFR 1.415 and 1.420.

List of Subjects in 47 CFR Part 73

Television.

Federal Communications Commission.
Barbara A. Kreisman,
Chief, Video Division, Media Bureau.

Proposed rules

For the reasons discussed in the preamble, the Federal Communications Commission proposes to amend 47 CFR part 73 as follows:

PART 73—RADIO BROADCAST SERVICES

1. The authority citation for part 73 continues to read as follows:

Authority: 47 U.S.C. 154, 303, 334, 336, and 339.

§ 73.622 [Amended]

2. Section 73.622(i), the Post-Transition Table of DTV Allotments under Rhode Island is amended by adding channel 17 at Newport and removing channel 17 at Block Island.

[FR Doc. 2018-12657 Filed 6-12-18; 8:45 am]

BILLING CODE 6712-01-P